DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Division, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Crittenden County, Arkansas, and Incorporated Areas
Docket No.: FEMA-B-1045
Mississippi River | Approximately at River Mile 700 | +212 | Unincorporated Areas of Crittenden County.
| Approximately at River Mile 727 | +226
| Approximately at River Mile 741 | +234
| Approximately at River Mile 750 | +237
* National Geodetic Vertical Datum.
+ North American Vertical Datum.
# Depth in feet above ground.
‸ Mean Sea Level, rounded to the nearest 0.1 meter.
ADDRESSES
Unincorporated Areas of Crittenden County
Maps are available for inspection at the Crittenden County Courthouse, 85 Jackson Street, Marion, AR 72482.
Madison County, Indiana, and Incorporated Areas
Docket No.: FEMA-B-1037
Alexandria Creek | Approximately 150 feet upstream of the confluence with Pipe Creek | +853 | City of Alexandria, Unincorporated Areas of Madison County.
| Approximately 2,100 feet upstream of 11th Street | +861
Big Duck Creek | At South P Street | +843 | City of Elwood, Unincorporated Areas of Madison County.
| Approximately 1,700 feet upstream of North 20th Street | +856
Boland Ditch | Approximately 700 feet downstream of Meadowbrook Parkway | +872 | City of Anderson.
| Approximately 4,190 feet upstream of Main Street | +881
Fall Creek | Approximately 630 feet downstream of Reformatory Road | +821 | Unincorporated Areas of Madison County.
| Approximately 9,980 feet upstream of State Route 67 | +862
Foster Branch | Approximately 2,060 feet downstream of Fall Creek Road | +816 | Town of Ingalls, Town of Pendleton, Unincorporated Areas of Madison County.
| Approximately 240 feet upstream of Old State Road 132 | +860
Pipe Creek | Approximately 1,425 feet downstream of Conrail Railroad | +820 | City of Alexandria, Unincorporated Areas of Madison County.
| Approximately 2,690 feet upstream of Washington Street | +857
Prairie Creek | Approximately 2,460 feet upstream of State Route 67 | +851 | Unincorporated Areas of Madison County.
| Approximately 4,460 feet upstream of State Route 67 | +851
West Fork White River | At State Route 13 North | +805 | City of Anderson, Town of Chesterfield, Town of Country Club Heights, Town of River Forest, Town of Woodlawn Heights, Unincorporated Areas of Madison County.
| At County Line Road/South 1000 West | +872
* National Geodetic Vertical Datum.
+ North American Vertical Datum.
# Depth in feet above ground.
‸ Mean Sea Level, rounded to the nearest 0.1 meter.
ADDRESSES
City of Alexandria
Maps are available for inspection at the City of Alexandria Office, 125 North Wayne Street, Alexandria, IN 46001.
City of Anderson
Maps are available for inspection at the City Building, 120 East 8th Street, Anderson, IN 46016.
City of Elwood
Maps are available for inspection at City Hall, 1505 South B Street, Elwood, IN 46036.
Town of Chesterfield
Maps are available for inspection at the Government Center, 17 Veterans Boulevard, Chesterfield, IN 46017.
Town of Country Club Heights
Maps are available for inspection at 1202 North Madison Avenue, Anderson, IN 46011.
Town of Ingalls
Maps are available for inspection at the Town Center, 247 Meridian Street, Ingalls, IN 46048.
Town of Pendleton
Maps are available for inspection at the Town Hall, 100 West State Street, Pendleton, IN 46064.
Town of River Forest
Maps are available for inspection at 53 River Forest Street, Anderson, IN 46011.
Town of Woodlawn Heights
Maps are available for inspection at 1301 Van Buskirk Road, Anderson, IN 46011.
Unincorporated Areas of Madison County
Maps are available for inspection at the Madison County Government Center, 16 East 9th Street, Room 200, Anderson, IN 46018.
Lee County, Iowa, and Incorporated Areas
Docket No.: FEMA-B-1106
Des Moines River (backwater effects from Mississippi River) | At the confluence with the Mississippi River | +499 | City of Keokuk.
| Approximately 700 feet upstream of Burlington Northern Railroad | +499
Devils Creek (backwater effects from Mississippi River) | Just upstream of the confluence with the Mississippi River | +524 | City of Fort Madison, Unincorporated Areas of Lee County.
| Approximately 900 feet downstream of 235th Street | +524
Dry Creek (backwater effects from Mississippi River) | Just upstream of the confluence with the Mississippi River | +525 | City of Fort Madison.
| Approximately 100 feet downstream of Atchison Topeka and Santa Fe Railway (Southernmost Track) | +525
Fork Creek (backwater effects from Mississippi River) | Just upstream of the confluence with the Mississippi River | +526 | City of Fort Madison.
| Approximately 100 feet downstream of Burlington Northern Railroad | +526
French Creek | Approximately 600 feet upstream of B Avenue | +558 | Unincorporated Areas of Lee County.
| Approximately 700 feet upstream of B Avenue | +558
Horton Creek (backwater effects from Mississippi River) | At the downstream side of Burlington Northern Railroad | +523 | City of Montrose.
| Approximately 200 feet downstream of 2nd Street | +523
Jack Creek (backwater effects from Mississippi River) | Approximately 1,300 feet upstream of 1st Street | +523 | City of Montrose.
| At the downstream side of Burlington Northern Railroad | +523
Mississippi River | At the confluence with the Des Moines River | +499 | City of Fort Madison, City of Keokuk, City of Montrose, Unincorporated Areas of Lee County.
| Approximately 4.7 miles downstream of the confluence with the Skunk River | +529
Mississippi River Tributary (backwater effects from Mississippi River) | Approximately 100 feet upstream of Atchison Topeka and Santa Fe Railway | +524 | Unincorporated Areas of Lee County.
| Approximately 0.6 miles upstream of Ortho Road | +524
Soap Creek | Just upstream of the confluence with the Mississippi River | +500 | City of Keokuk.
| Approximately 500 feet downstream of 7th Street | +502
* National Geodetic Vertical Datum.
+ North American Vertical Datum.
# Depth in feet above ground.
‸ Mean Sea Level, rounded to the nearest 0.1 meter.
ADDRESSES
City of Fort Madison
Maps are available for inspection at 811 Avenue E, Fort Madison, IA 52627.
City of Keokuk
Maps are available for inspection at 415 Blondeau Street, Keokuk, IA 52632.
City of Montrose
Maps are available for inspection at 102 South 2nd Street, Montrose, IA 52639.
Unincorporated Areas of Lee County
Maps are available for inspection at 933 Avenue H, Fort Madison, IA 52627.
Franklin County, Kansas, and Incorporated Areas
Docket Nos.: FEMA-B-1057 and FEMA-B-1105
Marias des Cygnes River | At South East Street | +882 | City of Rantoul.
| Approximately 800 feet upstream of Vermont Road | +882
Nugent Creek | Just upstream of Marshall Road | +904 | City of Ottawa, Unincorporated Areas of Franklin County.
| Just downstream of I-35 | +940
Pottawatomie Creek | At the confluence with Unnamed Tributary between Walnut Street and Cherry Street in eastern portion of the city | +874 | City of Lane.
| Just upstream of the intersection of Lane Road and South Kansas Avenue | +875
Rock Creek | Just upstream of East 15th Street | +902 | City of Ottawa, Unincorporated Areas of Franklin County.
| Just downstream of I-35 | +913
Walnut Creek | Just upstream of I-35 | +1012 | City of Wellsville, Unincorporated Areas of Franklin County.
| Just upstream of Utah Road | +1040
Walnut Creek Tributary | At the confluence with Walnut Creek | +1030 | Unincorporated Areas of Franklin County.
| Approximately 800 feet downstream of Hedge Road | +1038
* National Geodetic Vertical Datum.
+ North American Vertical Datum.
# Depth in feet above ground.
‸ Mean Sea Level, rounded to the nearest 0.1 meter.
ADDRESSES
City of Lane
Maps are available for inspection at 520 3rd Street, Lane, KS 66042.
City of Ottawa
Maps are available for inspection at 101 South Hickory Street, 2nd Floor, Ottawa, KS 66067.
City of Rantoul
Maps are available for inspection at 120 East Main Street, Rantoul, KS 66079.
City of Wellsville
Maps are available for inspection at 411 Main Street, Wellsville, KS 66092.
Unincorporated Areas of Franklin County
Maps are available for inspection at 315 South Main Street, Suite 202, Ottawa, KS 66067.
Barren County, Kentucky, and Incorporated Areas
Docket No.: FEMA-B-1080
Barren River Lake | Entire shoreline | +590 | Unincorporated Areas of Barren County.
Barren River Tributary 32.1 (backwater effects from Barren River Lake) | From the confluence with Barren River Lake to approximately 0.2 mile upstream of the confluence with Barren River Lake | +590 | Unincorporated Areas of Barren County.
Beaver Creek (backwater effects from Barren River Lake) | From the confluence with Barren River Lake to approximately 4.0 miles upstream of the confluence with Barren River Lake | +590 | Unincorporated Areas of Barren County.
Beaver Creek Tributary 1 (backwater effects from Barren River Lake) | From the confluence with Barren River Lake to approximately 0.7 mile upstream of the confluence with Barren River Lake | +590 | Unincorporated Areas of Barren County.
Beaver Creek Tributary 1.4 (backwater effects from Barren River Lake) | From the confluence with Beaver Creek Tributary 1 to approximately 1.5 miles upstream of the confluence with Beaver Creek Tributary 1 | +590 | Unincorporated Areas of Barren County.
Beaver Creek Tributary 47 (backwater effects from Barren River Lake) | From the confluence with Beaver Creek to approximately 0.3 mile upstream of the confluence with Beaver Creek | +590 | Unincorporated Areas of Barren County.
Coon Creek (backwater effects from Barren River Lake) | From the confluence with Barren River Lake to approximately 0.8 mile upstream of the confluence with Barren River Lake | +590 | Unincorporated Areas of Barren County.
Dry Creek (backwater effects from Barren River Lake) | From the confluence with Barren River Lake to approximately 1.0 mile upstream of the confluence with Barren River Lake | +590 | Unincorporated Areas of Barren County.
Peter Creek (backwater effects from Barren River Lake) | From the confluence with Barren River Lake to approximately 2.2 miles upstream of the confluence with Barren River Lake | +590 | Unincorporated Areas of Barren County.
Rose Creek (backwater effects from Barren River Lake) | From the confluence with Skaggs Creek to approximately 1.6 miles upstream of the confluence with Skaggs Creek | +590 | Unincorporated Areas of Barren County.
Skaggs Creek (backwater effects from Barren River Lake) | From the confluence with Barren River Lake to approximately 2.3 miles upstream of the confluence with Barren River Lake | +590 | Unincorporated Areas of Barren County.
South Fork Beaver Creek (backwater effects from Barren River Lake) | From the confluence with Beaver Creek to approximately 0.4 mile upstream of the confluence with Beaver Creek | +590 | Unincorporated Areas of Barren County.
South Glover Creek (backwater effects from Barren River Lake) | From the confluence with Barren River Lake to approximately 1.5 miles upstream of the confluence with Barren River Lake | +590 | Unincorporated Areas of Barren County.
* National Geodetic Vertical Datum.
+ North American Vertical Datum.
# Depth in feet above ground.
‸ Mean Sea Level, rounded to the nearest 0.1 meter.
ADDRESSES
Unincorporated Areas of Barren County
Maps are available for inspection at 117 North Public Square, Suite 3A, Glasgow, KY 42141.
Clinton County, Michigan (All Jurisdictions)
Docket No.: FEMA-B-1053
Looking Glass River | Just upstream of South Chandler Road | +805 | Charter Township of Bath, Township of Victor.
| Approximately 9,000 feet upstream of Babcock Road | +807
Prairie Creek and Gunderman Lake Drain | At the confluence with Remy Chandler Drain | +817 | Charter Township of DeWitt.
| Approximately 7,410 feet upstream of West Stoll Road | +832
Remy Chandler Drain | Approximately 350 feet downstream of I-69 | +834 | Charter Township of Bath, Charter Township of DeWitt, City of East Lansing.
| Approximately 1,140 feet upstream of Coleman Road | +841
Steel and Walbridge Drain | At the confluence with Spaulding Drain | +730 | City of St. Johns, Township of Bingham.
| Approximately 600 feet upstream of Glastonbury Drive | +752
* National Geodetic Vertical Datum.
+ North American Vertical Datum.
# Depth in feet above ground.
‸ Mean Sea Level, rounded to the nearest 0.1 meter.
ADDRESSES
Charter Township of Bath
Maps are available for inspection at 14480 Webster Road, Bath, MI 48808.
Charter Township of DeWitt
Maps are available for inspection at 1401 West Herbison Road, DeWitt, MI 48820.
City of East Lansing
Maps are available for inspection at 410 Abbott Road, East Lansing, MI 48823.
City of St. Johns
Maps are available for inspection at 100 East State Street, Suite 1100, St. Johns, MI 48879.
Township of Bingham
Maps are available for inspection at 1637 South DeWitt Road, St. Johns, MI 48879.
Township of Victor
Maps are available for inspection at 6843 East Alward Road, Laingsburg, MI 48848.
Clay County, Mississippi, and Incorporated Areas
Docket No.: FEMA-B-1093
Tombigbee River | Approximately 1.7 miles upstream of the confluence with Tibbee Creek | +177 | Unincorporated Areas of Clay County.
| Approximately 4.2 miles upstream of the confluence with Town Creek East | +188
* National Geodetic Vertical Datum.
+ North American Vertical Datum.
# Depth in feet above ground.
‸ Mean Sea Level, rounded to the nearest 0.1 meter.
ADDRESSES
Unincorporated Areas of Clay County
Maps are available for inspection at the Clay County Courthouse, 205 Court Street, West Point, MS 39773.
Cooper County, Missouri, and Incorporated Areas
Docket No.: FEMA-B-1087
Missouri River | Approximately 1,500 feet upstream of the Moniteau County boundary | +587 | City of Boonville, Unincorporated Areas of Cooper County.
| Approximately 2,500 feet downstream of the Saline County boundary | +610
* National Geodetic Vertical Datum.
+ North American Vertical Datum.
# Depth in feet above ground.
‸ Mean Sea Level, rounded to the nearest 0.1 meter.
ADDRESSES
City of Boonville
Maps are available for inspection at 1200 Locust Street, Boonville, MO 65233.
Unincorporated Areas of Cooper County
Maps are available for inspection at 200 Main Street, Room 4, Boonville, MO 65233.
Dawson County, Nebraska, and Incorporated Areas
Docket No.: FEMA-B-1087
North Channel Platte River | Approximately 1.2 miles downstream of Cottonwood Drive | +2548 | City of Gothenburg.
| Just upstream of I-80 | +2566
Platte River | Approximately 0.6 mile downstream of Plum Creek Parkway | +2381 | City of Gothenburg, City of Lexington, Unincorporated Areas of Dawson County.
| Approximately 2.2 miles upstream of Plum Creek Parkway | +2398
| Approximately 1.6 miles downstream of State Highway 47 | +2550
| Approximately 2.2 miles upstream of State Highway 47 | +2572
Spring Creek | Approximately 1,500 feet southeast of the intersection of Road 436 and East Prospect Road | +2367 | City of Lexington, Unincorporated Areas of Dawson County.
| On Spring Creek just downstream of Road 431 | +2424
* National Geodetic Vertical Datum.
+ North American Vertical Datum.
# Depth in feet above ground.
‸ Mean Sea Level, rounded to the nearest 0.1 meter.
ADDRESSES
City of Gothenburg
Maps are available for inspection at 409 9th Street, Gothenburg, NE 69138.
City of Lexington
Maps are available for inspection at 406 East 7th Street, Lexington, NE 68850.
Unincorporated Areas of Dawson County
Maps are available for inspection at 700 North Washington Street, Lexington, NE 68850.
Seneca County, Ohio, and Incorporated Areas
Docket No.: FEMA-B-1085
Morrison Creek (backwater effects from Sandusky River) | At the confluence with the Sandusky River | +717 | Unincorporated Areas of Seneca County.
| Approximately 700 feet upstream of the confluence with the Sandusky River | +717
Sandusky River | Approximately 1.0 mile downstream of Huss Street | +709 | City of Tiffin, Unincorporated Areas of Seneca County.
| Approximately 1,600 feet downstream of U.S. Route 224 | +745
* National Geodetic Vertical Datum.
+ North American Vertical Datum.
# Depth in feet above ground.
‸ Mean Sea Level, rounded to the nearest 0.1 meter.
ADDRESSES
City of Tiffin
Maps are available for inspection at 51 East Market Street, Tiffin, OH 44883.
Unincorporated Areas of Seneca County
Maps are available for inspection at 109 South Washington Street, Suite 2002, Tiffin, OH 44883.
Jackson County, Oregon, and Incorporated Areas
Docket No.: FEMA-B-1085
Daisy Creek | At the confluence with Griffin Creek | +1274 | City of Central Point, Unincorporated Areas of Jackson County.
| Just upstream of Beall Lane | +1299
Elk Creek | At the confluence with Bear Creek | +1271 | City of Central Point, Unincorporated Areas of Jackson County.
| Just upstream of Beall Lane | +1297
Griffin Creek | At the confluence with Bear Creek | +1214 | City of Central Point, Unincorporated Areas of Jackson County.
| Just downstream of Taylor Road | +1267
| Just upstream of Beall Lane | +1301
Horn Creek | At the confluence with Jackson Creek | +1264 | City of Central Point, Unincorporated Areas of Jackson County.
| Just downstream of Mendolia Way | +1281
| Just upstream of Grant Road | +1290
Jackson Creek | Just downstream of Scenic Avenue | +1235 | City of Central Point, Unincorporated Areas of Jackson County.
| Just downstream of Taylor Road | +1266
| Just upstream of Beall Lane | +1301
Jackson Creek Overbank | At the confluence with Jackson Creek | +1238 | City of Central Point, Unincorporated Areas of Jackson County.
| At the divergence from Griffin Creek | +1258
Mingus Creek | Just downstream of Pine Street | +1261 | City of Central Point, Unincorporated Areas of Jackson County.
| Just upstream of Highway 99 | +1295
Rouge River | Approximately 500 feet upstream of Savage Rapids Dam | +975 | Unincorporated Areas of Jackson County.
| Approximately 1.02 miles upstream of the confluence with Little Savage Creek | +987
* National Geodetic Vertical Datum.
+ North American Vertical Datum.
# Depth in feet above ground.
‸ Mean Sea Level, rounded to the nearest 0.1 meter.
ADDRESSES
City of Central Point
Maps are available for inspection at City Hall, 140 South 3rd Street, Central Point, OR 97502.
Unincorporated Areas of Jackson County
Maps are available for inspection at City Hall, 10 South Oakdale Avenue, Room 200, Medford, OR 97501.
Fairfield County, South Carolina, and Incorporated Areas
Docket No.: FEMA-B-1110
McCulley Creek | Approximately 1,370 feet downstream of State Road S-20-56 | +350 | Town of Winnsboro, Unincorporated Areas of Fairfield County.
| Approximately 560 feet downstream of Dogwood Avenue | +396
Sand Creek | Approximately 1.4 miles downstream of Pumphouse Road | +378 | Town of Winnsboro, Unincorporated Areas of Fairfield County.
| Approximately 169 feet downstream of U.S. Route 321 | +522
Sand Creek Tributary 10 | At the confluence with Sand Creek | +429 | Unincorporated Areas of Fairfield County
| Approximately 0.7 mile upstream of the confluence with Sand Creek | +489
Sand Creek Tributary 11 | At the confluence with Sand Creek | +449 | Town of Winnsboro.
| Approximately 1,473 feet upstream of U.S. Route 321 | +544
* National Geodetic Vertical Datum.
+ North American Vertical Datum.
#Depth in feet above ground.
‸ Mean Sea Level, rounded to the nearest 0.1 meter.
ADDRESSES
Town of Winnsboro
Maps are available for inspection at the Town Hall, 117 South Congress Street, Winnsboro, SC 29180.
Unincorporated Areas of Fairfield County
Maps are available for inspection at the Winnsboro Town Hall, 117 South Congress Street, Winnsboro, SC 29180.
Greenwood County, South Carolina, and Incorporated Areas
Docket No.: FEMA-B-1093
Lake Greenwood | Entire shoreline within community | +442 | Unincorporated Areas of Greenwood County.
Ninety-Six Creek | Approximately 1.0 mile downstream of U.S. Route 702 | +399 | Unincorporated Areas of Greenwood County.
| Approximately 1,655 feet upstream of U.S. Route 702 | +403
Rocky Creek Tributary | Approximately 516 feet downstream of Bypass 72 | +575 | City of Greenwood.
| Approximately 2,177 feet upstream of Bypass 72 | +590
Saluda River | Approximately 3.9 miles downstream of U.S. Route 25 | +448 | Town of Ware Shoals, Unincorporated Areas of Greenwood County.
| Approximately 200 feet upstream of Saluda Avenue | +531
Sample Branch | Approximately 1,206 feet upstream of the confluence with Rocky Creek | +527 | City of Greenwood, Unincorporated Areas of Greenwood County.
| Approximately 130 feet upstream of Dry Branch Court | +563
* National Geodetic Vertical Datum.
+ North American Vertical Datum.
# Depth in feet above ground.
‸ Mean Sea Level, rounded to the nearest 0.1 meter.
ADDRESSES
City of Greenwood
Maps are available for inspection at City Hall, 520 Monument Street, Greenwood, SC 29648.
Town of Ware Shoals
Maps are available for inspection at the Town Hall, 8 Mill Street, Ware Shoals, SC 29692.
Unincorporated Areas of Greenwood County
Maps are available for inspection at the Greenwood County Courthouse, 600 Monument Street, Greenwood, SC 29646.
Barbour County, West Virginia, and Incorporated Areas
Docket No.: FEMA-B-1083
Tygart Valley River | Approximately 40 feet downstream of the confluence with Big Run | +1696 | Unincorporated Areas of Barbour County.
| Approximately 175 feet upstream of the confluence with Tributary No. 1 to Tygart Valley River | +1706
* National Geodetic Vertical Datum.
+ North American Vertical Datum.
# Depth in feet above ground.
‸ Mean Sea Level, rounded to the nearest 0.1 meter.
ADDRESSES
Unincorporated Areas of Barbour County
Maps are available for inspection at the Barbour County Courthouse, 8 North Main Street, Philippi, West Virginia 26416.

(Catalog of Federal Domestic Assistance No. 97.022, “Flood Insurance.”)

Dated: April 8, 2011.
Sandra K. Knight,
Deputy Federal Insurance and Mitigation Administrator, Mitigation, Department of Homeland Security, Federal Emergency Management Agency.

[FR Doc. 2011-9341 Filed 4-15-11; 8:45 am]

BILLING CODE 9110-12-P